DEPARTMENT OF JUSTICE

[OMB Number 1140-0NEW]

Agency Information Collection Activities; Proposed eCollection eComments Requested; New Collection; Recruitment Outreach Data Collection

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until November 24, 2023.

FOR FURTHER INFORMATION CONTACT: If you have additional comments especially on the estimated public burden or associated response time, suggestions, or need a copy of the proposed information collection instrument with instructions or additional information, contact: Vaughn Smith, either by mail at ATF Human Resource Personnel Division, Room 2.E.-301, 99 New York Ave. NE, Washington, DC 20226, by email at Vaughn.Smith@atf.gov, or telephone at (202) 648-7208.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The collection of this data ensures ATF recruiters can follow-up with potential applicants that have expressed an interest in ATF careers. This data collection is imperative to the accurate reporting of ATF's recruitment and outreach events which prioritize populations that are underrepresented within the agency. The data collected will be used to brief ATF management on the success/challenges of recruitment/outreach events and compiled to report efforts to DOJ via reports such as the Disabled Veterans Affirmative Action Program (DVAAP).

Overview of This Information Collection

1. Type of Information Collection: New Collection.

2. The Title of the Form/Collection: Recruitment Outreach Data Collection.

3. The agency form number, if any, and the applicable component of the Department sponsoring the collection: Form number: ATF Form 2310.2.

Component: Bureau of Alcohol, Tobacco, Firearms and Explosives, U.S. Department of Justice.

4. Affected public who will be asked or required to respond, as well as the obligation to respond: Individuals or households. The obligation to respond is voluntary.

5. An estimate of the total number of respondents and the amount of time estimated for an average respondent to respond: An estimated 80 respondents will complete this form once annually, and it will take each respondent approximately 5 minutes to complete their responses.

6. An estimate of the total annual burden (in hours) associated with the collection: The estimated annual public burden associated with this collection is 6.667 hours, which is equal to 80 (total respondents) * 1 (# of response per respondent) * 0.0832 (5 minutes).

7. An estimate of the total annual cost burden associated with the collection, if applicable: $0. There is no new cost associated with this information collection since all requests will be electronically submitted.

Total Burden Hours
Activity | Number of respondents | Frequency | Total annual responses | Time per response (mins.) | Total annual burden (hours)
Recruitment Outreach Data Collection ATF F. 2310.2 | 80 | 1/annually | 80 | 5 | 6.667

If additional information is required contact: Darwin Arceo, Department Clearance Officer, United States Department of Justice, Justice Management Division, Policy and Planning Staff, Two Constitution Square, 145 N Street NE, 4W-218, Washington, DC.

Dated: September 19, 2023.
Darwin Arceo,
Department Clearance Officer for PRA, U.S. Department of Justice.

[FR Doc. 2023-20640 Filed 9-22-23; 8:45 am]

BILLING CODE 4410-14-P